DEPARTMENT OF COMMERCE

Foreign-Trade Zones Board

[B-53-2015]

Application for Additional Production Authority; The Coleman Company, Inc.; Subzone 119I; (Textile-Based Personal Flotation Devices) Notice of Postponement of Public Hearing

At the request of the applicant, a public hearing was scheduled to be held for the case referenced above on December 3, 2015 (see 80 FR 68504, November 5, 2015). At the request of a party who may be materially affected by the zone activity in question, that hearing is now being postponed. Once a new date and time have been set for the hearing, notice will be given in the Federal Register. The open comment period for the case (currently scheduled to close on January 4, 2016) will be extended through a new date which will fall no less than 15 days after the hearing is held.

For further information, contact Pierre Duy at Pierre.Duy@trade.gov or (202) 482-1378.

Dated: November 25, 2015.
Andrew McGilvray,
Executive Secretary.

[FR Doc. 2015-30482 Filed 11-27-15; 8:45 a.m.]

BILLING CODE 3510-DS-P